DEPARTMENT OF JUSTICE

Notice of Lodging of Consent Decree Under the Clean Water Act

Notice is hereby given that on September 15, 2006, a proposed consent decree in United States v. C&D Technologies, Inc., Civ. No. 1:03-cv-413 was lodged with the United States District Court for the Southern District of Indiana.

In this action the United States sought civil penalties and injunctive relief for alleged violations of the Clean Water Act and its pertinent regulations at C&D Technologies, Inc.'s lead acid battery manufacturing facility in Attica, Indiana. Specifically, the United States' complaint alleged: (1) Violations of the Pretreatment Standards for Existing Sources and new sources of pollution (“PSES”), 40 CFR 403, and the PSES for Battery Manufacturing, 40 CFR 403.5(d) and CWA Section 307(d), 33 U.S.C. 1317(d); (2) violations of C&D's National Pollution Discharge Elimination System permit (“NPDES Permit”) and CWA Sections 301 and 402, 33 U.S.C. 1311 and 1342; (3) that C&D through the presence of lead in its effluent prevented the Attica, Indiana, Publicly Owned Treatment Works (“POTW”) from using the POTW's chosen sludge use or disposal practice, in violation of 40 CFR 403.5 and 403.2, and CWA Section 307(d) 33 USC 1317(d); (4) that C&D failing to submit compliance reports in violation of 40 CFR 403.12 and DWA Section 307, 33 U.S.C. 1317; (5) that C&D failed to comply with the PSES for Battery Manufacturing by failing to monitor its effluent for copper content, in violation of 40 CFR 461.34, 40 CFR 403.12(g), and CWA Section 307, 33 U.S.C. 1317 and (6) that C&D failed to comply with certain provisions of a 1997 Administrative Order, in violation of CWA Sections 308 and 309, 33 U.S.C. 1318 and 1319.

Under the proposed Consent Decree, C&D would pay a civil penalty of $1,600,000 and undertake various injunctive relief measures in addition to previous injunctive relief expenditures.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. C&D Technologies, Inc., D.J. Ref. 90-5-1-1-06996.

The proposed Consent Decree may be examined at the Office of the United States Attorney for the Southern District of Indiana, U.S. Courthouse—5th Floor, 46 East Ohio Street, Indianapolis, IN 46204 (contact Asst. U.S. Attorney Thomas Kieper (317)-26-6333)), and at U.S. EPA Region 5, 7th Floor Records Center, 77 West Jackson Blvd., Chicago, Illinois 60604 (contact Assoc. Regional Counsel Larry Johnson (312-886-6609)). During the public comment period, the proposed consent decree may also be examined on the following Department of Justice Web site http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-1547. In requesting a copy from the Consent Decree Library, please enclose a check in the amount of $12.50 (25 cents per page reproduction cost) payable to the U.S. Treasury or, if by e-mail or fax, forward a check in that amount to the Consent Decree Library at the stated address.

William Brighton,
Assistant Chief, Environmental Enforcement Section, Environment and Natural Resources Division.

[FR Doc. 06-8297 Filed 9-26-06; 8:45 am]

BILLING CODE 4410-15-M